NATIONAL CREDIT UNION ADMINISTRATION

Sunshine Act: Notice of Agency Meeting

TIME AND DATE: 2:00 p.m., Wednesday, September 16, 2015.

PLACE: Board Room, 7th Floor, Room 7047, 1775 Duke Street, Alexandria, VA 22314-3428.

STATUS: Closed

MATTERS TO BE CONSIDERED:

1. Consideration of Supervisory Action. Closed pursuant to Exemptions (8), (9)(i)(B) and (9)(ii).

2. Consideration of Supervisory Action. Closed pursuant to Exemptions (8), (9)(i)(B) and (9)(ii).

3. Consideration of Supervisory Action. Closed pursuant to Exemptions (8), and (9)(i)(B).

4. Consideration of Supervisory Action. Closed pursuant to Exemptions (8), (9)(i)(B) and (9)(ii).

RECESS: 3:30 p.m.

TIME AND DATE: 10:00 a.m., Thursday, September 17, 2015.

PLACE: Board Room, 7th Floor, Room 7047, 1775 Duke Street (All visitors must use Diagonal Road Entrance), Alexandria, VA 22314-3428.

STATUS: Open.

MATTERS TO BE CONSIDERED:

1. Corporate Stabilization Fund Quarterly Report.

2. Request to Expand Community Charter, Charlotte Metro Federal Credit Union.

3. NCUA Rules and Regulations, Aggregate Lending Limit for Corporate Credit Unions.

4. NCUA's Rules and Regulations, Implementing Statutory Inflation of Civil Money Penalties.

5. NCUA's Rules and Regulations, Regulatory Flexibility Act Asset Threshold.

FOR FURTHER INFORMATION CONTACT: Gerard Poliquin, Secretary of the Board, Telephone: 703-518-6304.

Gerard Poliquin,
Secretary of the Board.

[FR Doc. 2015-23057 Filed 9-9-15; 4:15 pm]

BILLING CODE 7535-01-P